DEPARTMENT OF LABOR

Employment and Training Administration

[TA-W-63,439]

Watson Laboratories, Inc., a Connecticut Corporation, Including Workers Located Off-Site in Danbury, CT, Carmel, NY; Amended Certification Regarding Eligibility To Apply for Worker Adjustment Assistance and Alternative Trade Adjustment Assistance

In accordance with Section 223 of the Trade Act of 1974 (19 U.S.C 2273), and Section 246 of the Trade Act of 1974 (26 U.S.C. 2813), as amended, the Department of Labor issued a Certification of Eligibility to Apply for Worker Adjustment Assistance and Alternative Trade Adjustment Assistance on January 23, 2009, applicable to workers of Watson Laboratories, Inc., a Connecticut Corporation, Carmel, New York. The notice was published in the Federal Register on July 14, 2009 (73 FR 135).

At the request of the company official, the Department reviewed the certification for workers of the subject firm. The workers produce pharmaceuticals and medicines. New information provided by the company shows that the worker group included workers located off-site at an affiliated facility in Danbury, Connecticut.

The intent of the Department's certification is to include all workers at the subject firm who were adversely affected by the shift in production of pharmaceuticals and medicines to India and their subsequent import.

The Department has determined that the workers located in Carmel, New York and the workers located in Danbury, Connecticut are not separately identifiable by product.

Based on these findings, the Department is amending this certification to include workers of the subject firm working off-site at the Danbury, Connecticut location of the subject firm.

The amended notice applicable to TA-W-64,439 is hereby issued as follows:

“All workers of Watson Laboratories Inc., a Connecticut Corporation, including workers located off-site in Danbury, Connecticut, Carmel, New York, who became totally or partially separated from employment on or after May 27, 2007 through two years from the date of certification are eligible to apply for adjustment assistance under Section 223 of the Trade Act of 1974, and are also eligible to apply for alternative trade adjustment assistance under Section 246 of the Trade Act of 1974.”

Signed in Washington, DC, this 18th day of May 2009.
Richard Church,
Certifying Officer, Division of Trade Adjustment Assistance.

[FR Doc. E9-14324 Filed 6-17-09; 8:45 am]

BILLING CODE 4510-FN-P